DEPARTMENT OF AGRICULTURE

Office of the Secretary

7 CFR Part 6

Dairy Tariff-Rate Import Quota Licensing; Final Rule

AGENCY: Office of the Secretary, USDA.

ACTION: Final rule; technical corrections.

SUMMARY: This document amends the Dairy Tariff-Rate Import Quota Licensing regulation to provide for applications to be submitted using the internet, while continuing to permit applicants to use the existing certified mail provision for applications. The requirement that applications be notarized is eliminated. Additionally, an incorrect section reference is corrected.

DATES: Effective on September 1, 2004.

FOR FURTHER INFORMATION CONTACT: Bettyann Gonzales, Dairy Import Specialist, Import Policies and Programs Division, Foreign Agricultural Service, 1400 Independence Avenue, SW, STOP 1021, by e-mail at: gonzalesb@fas.usda.gov, telephone 202-720-1344, or fax at 202-720-6556.

SUPPLEMENTARY INFORMATION: The Dairy Tariff-Rate Import Quota Licensing program regulation which is codified at 7 CFR part 6, implements the licensing system for certain dairy products which are eligible for in-quota tariff rates proclaimed in the Harmonized Tariff Schedule of the United States.

Currently, § 6.36(b) requires all submissions to be made by registered or certified mail, return receipt requested, with a postmarked receipt. The Dairy Import Licensing Authority will soon be implementing a software program to permit applications for dairy import licenses to be submitted electronically over the internet. Therefore, the regulation is amended in various sections to permit applications to be submitted over the Internet, or by mail.

A final rule published on January 10, 2000, (65 FR 1297-1298) redesignated § 6.35 as § 6.36 and inserted a new § 6.35, but did not change references to the original § 6.35 throughout the regulation. This rules corrects the references.

List of Subjects in 7 CFR Part 6

Agricultural commodities, Cheese, Dairy Products, Imports, Reporting and record keeping requirements.

Accordingly, 7 CFR part 6 is amended as follows:

PART 6—IMPORT QUOTAS AND FEES

Subpart—Dairy Tariff-Rate Import Quota Licensing

1. The authority citation for Part 6, Subpart—Dairy Tariff-Rate Import Quota Licensing continues to read as follows:

Authority: Additional U.S. Notes 6, 7, 8, 12, 14, 16-23 and 25 to Chapter 4 and General Note 15 of the Harmonized Tariff Schedule of the United States (19 U.S.C. 1202), Pub. L. 97-258, 96 Stat. 1051, as amended (31 U.S.C. 9701), and secs. 103 and 404, Pub. L. 103-465, 108 Stat. 4819 (19 U.S.C. 3513 and 3601).

2. Amend § 6.24 by revising paragraphs (a) and (b)(1), and the introductory text of paragraph (c) to read as follows:

§ 6.24 Application for a license.

(a) Application for license shall be made on either paper or electronic forms, provided or designated by the Licensing Authority, and shall be submitted in accordance with § 6.36(b). All parts of the application shall be completed. The application, if mailed, shall be postmarked no earlier than September 1 and no later than midnight October 15 of the year preceding that for which license application is made. The application, if submitted electronically, shall be transmitted no earlier than September 1 and no later than midnight October 15 of the year preceding that for which license application is made. The Licensing Authority will not accept incomplete applications or unpostmarked mailed applications.

(b)(1) Where the applicant seeks to establish eligibility on the basis of imports, applications shall include identification of entries (if submitted electronically) or Customs Form 7501 (if submitted by mail), sufficient to establish the applicant as the importer of record of entries required under § 6.23, during the 12-month period ending August 31 prior to the quota year for which license is being sought.

* * * * *

(c) However, if the applicant is applying on the basis of more than eight shipments, the application, if mailed, shall include:

* * * * *

3. Amend § 6.26 by revising paragraph (a) and the introductory text of paragraph (c) to read as follows:

§ 6.26 Surrender and reallocation.

(a) If a licensee determines that it will not enter the entire amount of an article permitted under its license, such licensee shall surrender its license right to enter the amount that it does not intend to enter. Surrender shall be made to the Licensing Authority in writing by mail or electronic submission, postmarked or electronically submitted, in accordance with § 6.36(b), no later than October 1. Any surrender shall be final and shall be only for that quota year, except as provided in § 6.25(b). The amount of the license not surrendered shall be subject to the license use requirements of § 6.23(c)(1).

* * * * *

(c) Any person who has been issued a license for a quota year may apply to receive additional license, or addition to an existing license for a portion of the amount being reallocated. The application shall be submitted to the Licensing Authority by mail or electronic submission, in accordance with § 6.36(b), no earlier than September 1 and not later than September 15, and shall specify:

* * * * *

4. Amend § 6.28 by revising paragraph (b) to read as follows:

§ 6.28 Transfer of license.

* * * * *

(b) The parties seeking transfer of license shall give written notice to the Licensing Authority of the intended sale or conveyance described in paragraph (a) of this section by mail as required in § 6.36(b). The notice must be received by the Licensing Authority at least 20 working days prior to the intended consummation of the sale or conveyance. Such written notice shall include copies of the documents of sale or conveyance. The Licensing Authority will review the documents for compliance with the requirements of paragraph (a) of this section and advise the parties in writing of its findings by the end of the 20-day period. The parties shall have the burden of demonstrating to the satisfaction of the Licensing Authority that the contemplated sale or conveyance complies with the requirements of paragraph (a) of this section. Within 15 days of the consummation of the sale or conveyance, the parties shall mail copies of the final documents to the Licensing Authority, in accordance with § 6.36(b). The Licensing Authority will not transfer the licenses unless the documents are submitted in accordance with this paragraph.

* * * * *

5. Amend § 6.33 by revising paragraphs (b), (c), and (d) to read as follows:

§ 6.33 License fee.

* * * * *

(b) The license fee for each license issued is due and payable in full by mail or electronic submission, postmarked or electronically submitted in accordance with § 6.36(b), no later than May 1 of the year for which the license is issued. The fee for any license issued after May 1 of any quota year is due and payable in full by mail or electronic submission, postmarked or electronically submitted in accordance with § 6.36(b), no later than 30 days from the date of issuance of the license. Fee payments, if made by mail, shall be made by certified check or money order payable to the Treasurer of the United States. Fee payments, if made electronically, shall be made utilizing the electronic software designated for the purpose by the Licensing Authority.

(c) If the license fee is not paid by the final payment date, a hold will be placed on the use of the license and no articles will be permitted entry under that license. The Licensing Authority shall send a warning letter by certified mail, return receipt requested, advising the licensee that if payment is not mailed in accordance with § 6.36(b) or received within 21 days from the date of the letter, that the license will be revoked. Where the license at issue is a historical license, this will result, pursuant to § 6.23(b), in the person's loss of historical eligibility for such license.

(d) Licensees may elect not to accept certain licenses issued to them; however, the Licensing Authority must be so notified by mail or electronic e-mail, postmarked or electronically submitted in accordance with § 6.36(b) no later than May 1 of the year for which the license is issued.

6. Amend § 6.36 by revising paragraph (b) to read as follows:

§ 6.36 Miscellaneous.

* * * * *

(b) All submissions required under this subpart shall be made either by registered or certified mail, return receipt requested, with a postmarked receipt, with proper postage affixed and properly addressed to the Dairy Import Licensing Group, STOP 1021, U.S. Department of Agriculture, 1400 Independence Avenue SW., Washington DC 20250-1021, or by electronic submission utilizing the electronic software designated for this purpose by the Licensing Authority.

Signed at Washington, DC, on September 24, 2004.
A. Ellen Terpstra,
Administrator, Foreign Agricultural Service.

[FR Doc. 04-22444 Filed 10-5-04; 8:45 am]

BILLING CODE 3410-10-P